DEPARTMENT OF THE INTERIOR

Bureau of Land Management

[WY-040-1330-EO]

Notice of a 30-Day Public Comment Period on the Establishment of the Mechanically Mineable Trona Area, Wyoming

AGENCY: Bureau of Land Management, Interior.

ACTION: Notice.

SUMMARY: This notice solicits public comment as to whether the area of Sweetwater County, Wyoming, described below meets the criteria set forth below for a Mechanically Mineable Trona Area (MMTA).

DATES: Comments should be submitted to the below address no later than August 13, 2004.

ADDRESSES: Written comments should be addressed to: Assistant Field Manager, Minerals and Lands, Bureau of Land Management, Rock Springs Field Office, 280 Highway 191 North, Rock Springs, Wyoming 82901.

FOR FURTHER INFORMATION CONTACT: Ted Murphy, Assistant Field Manager, Rock Springs Field Office, at (307) 352-0321.

SUPPLEMENTARY INFORMATION: An MMTA generally defines an area underlain by trona (sodium) deposits of the proper depth, thickness, and quality to support extraction by mining techniques that require an underground workforce. The lands described below are proposed to be included within the MMTA:

Sixth Principal Meridian, Wyoming

T. 14 N., R. 108 W.,

Sec. 4 to 7 inclusive:

Sec. 18.

T. 14 N., R. 109 W.,

Sec. 1;

Sec. 12 and 13.

T. 15 N., R. 108 W.,

Sec. 2 to 10 inclusive;

Sec. 15 to 22 inclusive;

Sec. 27 to 34 inclusive.

T. 15 N., R. 109 W.,

Sec. 1 and 2;

Sec. 11 to 14 inclusive;

Sec. 23 to 25 inclusive;

Sec. 36.

T. 16 N., R. 108 W.,

Sec. 3 to 10 inclusive;

Sec. 15 to 22 inclusive;

Sec. 26 to 35 inclusive.

T. 16 N., R. 109 W.

Sec. 1 to 30 inclusive;

Sec. 35 and 36.

T. 16 N., R. 110 W.,

Sec. 1 and 2;

Sec. 11 to 15 inclusive;

Sec. 22 to 27 inclusive.

T. 17 N., R. 108 W.,

Sec. 5 to 9 inclusive;

Sec. 16 to 22 inclusive;

Sec. 26 to 35 inclusive.

T. 17 N., R. 109 W.,

All.

T. 17 N., R. 110 W.,

Sec. 1 to 6 inclusive;

Sec. 8 to 17 inclusive;

Sec. 22 to 27 inclusive;

Sec. 35 and 36.

T. 17 N., R. 111 W.,

Sec. 1 to 3 inclusive.

T. 18 N., R. 108 W.,

Sec. 6 and 7;

Sec. 18 to 20 inclusive;

Sec. 29 to 32 inclusive.

T. 18 N., R. 109 W.,

All.

T. 18 N., R. 110 W.,

All.

T. 18 N., R. 111 W.,

Sec. 1 to 4 inclusive;

Sec. 5, lots 1 and 2, S½NE¼, and SE¼;

Sec. 8, E½;

Sec. 9 to 16 inclusive;

Sec. 17, E½;

Sec. 20, E½;

Sec. 21 to 28 inclusive;

Sec. 29, E½;

Sec. 32, E½;

Sec. 33 to 36 inclusive.

T. 19 N., R. 108 W.,

Sec. 5 and 6.

T. 19 N., R. 109 W.,

Sec. 1 to 10 inclusive;

Sec. 16 to 22 inclusive;

Sec. 26 to 36 inclusive.

T. 19 N., R. 110 W.,

All.

T. 19 N., R. 111 W.,

Sec. 1 to 4 inclusive;

Sec. 9 to 16 inclusive;

Sec. 21 to 28 inclusive;

Sec. 33 to 36 inclusive.

T. 20 N., R. 108 W.,

Sec. 6 to 8 inclusive;

Sec. 17 to 20 inclusive;

Sec. 29 to 32 inclusive.

T. 20 N., R. 109 W.,

All.

T. 20 N., R. 110 W.,

Sec. 1;

Sec. 8 and 9;

Sec. 12 and 13;

Sec. 15 to 22 inclusive;

Sec. 24 to 36 inclusive.

T. 20 N., R. 111 W.,

Sec. 13 and 14;

Sec. 21, E½E½;

Sec. 22 to 27 inclusive;

Sec. 28, E½;

Sec. 33 to 36 inclusive.

T. 21 N., R. 108 W.,

Sec. 16 and 17;

Sec. 18, lot 8, SE¼SW¼, and S½SE¼;

Sec. 19 to 22 inclusive;

Sec. 27 to 34 inclusive.

T. 21 N., R. 109 W.,

Sec. 24 to 27 inclusive;

Sec. 34 to 36 inclusive.

Containing 317,321.45 acres, more or less.

Dated: June 3, 2004.
Robert A. Bennett,
State Director.

[FR Doc. 04-15892 Filed 7-13-04; 8:45 am]

BILLING CODE 4310-22-P